ENVIRONMENTAL PROTECTION AGENCY

[FRL-7024-2]

Sole Source Aquifer Determination for the Castle Valley Aquifer System, Castle Valley, UT

AGENCY: Environmental Protection Agency (EPA).

ACTION: Notice of final determination.

SUMMARY: Pursuant to section 1424(e) of the Safe Drinking Water Act, the Regional Administrator of the U.S. Environmental Protection Agency (EPA) in Region VIII has determined that the Castle Valley Aquifer System, at Castle Valley, Utah and the immediately adjacent recharge area is the sole or principal source of drinking water for the region. The Castle Valley Aquifer System consists of undifferentiated Quaternary valley-fill deposits and the underlying Cutler Formation. The aquifer is located in southeastern Utah extending from the Town of Castle Valley, Utah southeast to the La Sal Mountains and northwest to the Colorado River encompassing approximately 24,000 acres in parts of Township 24 South, Ranges 22, 23, and 24 East and parts of Township 25 South, Ranges 22, 23, and 24 East SLB&M. The area is irregularly shaped with maximum dimensions of about 16 miles from southeast to northwest and approximately 3 miles from northeast to southwest. The entire area is within Grand County, Utah. No reasonable alternative sources of drinking water with sufficient supply exist to meet the needs of this area because of the complexity and limitations of water rights in southeastern Utah. A significant hazard to public health would occur if this aquifer becomes contaminated.

The boundaries of the designated area have been reviewed and approved by EPA. As a result of this action, federal financially assisted projects constructed in the approximately 50 square mile area mentioned above will be subject to EPA review to ensure that these projects are designed and constructed in a manner which does not create a significant hazard to public health. For the purposes of this designation the Aquifer Service Area and the Project Review Area are the same as the Designated Area.

DATES: This determination shall be promulgated for purposes of judicial review at 1:00 p.m. Mountain Standard Time on August 6, 2001.

ADDRESSES: The data upon which these findings are based, and a map of the designated area are available to the public and may be inspected during normal business hours at the U.S. Environmental Protection Agency, Region VIII, 999 18th Street, Suite 300, Denver, CO 80202-2466.

FOR FURTHER INFORMATION CONTACT: William J. Monheiser, Regional Sole Source Aquifer Coordinator, Ground Water Program, 8P-W-GW, USEPA Region VIII, 999 18th Street, Suite 300, Denver, Colorado 80202-2466, Phone: 303.312.6271, Fax: 303.312.7084, e-mail: monheiser.william@epa.gov.

SUPPLEMENTARY INFORMATION: Notice is hereby given that, pursuant to section 1424(e) of the Safe Drinking Water Act, 42 U.S.C. 300f, 300h-3(e), Public Law 93-523 as amended, the Regional Administrator of the U.S. Environmental Protection Agency (EPA) Region VIII has determined that the Castle Valley Aquifer System is the sole or principal source of drinking water for the Castle Valley area of southeast Utah described above. Pursuant to section 1424(e), federal financially assisted projects constructed anywhere in the designated area described above will be subject to EPA review.

I. Background

Section 1424(e) of the Safe Drinking Water Act states:

If the Administrator determines, on his own initiative or upon petition, that an area has an aquifer which is the sole or principal drinking water source for the area and which, if contaminated, would create a significant hazard to public health, he shall publish notice of that determination in the Federal Register. After the publication of any such notice, no commitment for federal financial assistance (through a grant, contract, loan guarantee, or otherwise) may be entered into for any project which the Administrator determines may contaminate such aquifer through a recharge zone so as to create a significant hazard to public health, but a commitment for federal financial assistance may, if authorized under another provision of the law, be entered into to plan or design the project to assure that it will not so contaminate the aquifer.

Effective March 9, 1987, authority to make a Sole Source Aquifer Designation Determination was delegated to the U.S. EPA Regional Administrators.

On August 7, 2000, EPA received a petition from the Town of Castle Valley, HC 64 Box 2812, Castle Valley, Utah 84532-9608, requesting that EPA designate the ground water resources of the Castle Valley Aquifer System near the Town of Castle Valley as a Sole Source Aquifer. In response to this petition, EPA published a Public Notice of Intent to Designate and invited any citizen to request a public meeting or to comment in writing or by telephone. This notice was published in the Moab Times-Independent, a newspaper of general circulation in the Castle Valley area on November 30, 2000. EPA also sent copies of the notice with descriptive information to all postal patrons in the Castle Valley area. This notice announced receipt of the petition and requested public comment for a 30 day comment period. Comments received in writing, by telephone, fax and e-mail were accepted. The public comment period extended from November 7, 2000 to December 15, 2000.

Subsequently, EPA determined that the petition was both administratively and technically complete and adequate for the purposes of Sole Source Aquifer determination.

II. Basis for Determination

Among the factors considered by the Regional Administrator for designation of a Sole Source Aquifer under section 1424(e) are: (1) Whether the aquifer is the area's sole or principal source of drinking water, (2) if the designated area has been adequately delineated and, (3) whether contamination of the aquifer would create a significant hazard to public health.

On the basis of information available to EPA, the Regional Administrator has made the following findings of fact, which are the basis for this determination:

1. The Castle Valley Aquifer System serves as the “sole source” of drinking water for approximately 300 permanent residents within the review area. There is no existing alternative drinking water source or combination of sources which could provide fifty percent or more of the drinking water to the designated area, nor is there any projected alternative source capable of supplying the area's drinking water needs at an economical cost.

2. The boundaries of the aquifer were determined by hydrogeologic mapping. The boundaries were delineated by a geological consultant with special expertise in drinking water source protection and confirmed by EPA professional staff.

3. The Castle Valley Aquifer System supplies water of varying quality depending on the impacts of the underlying Cutler Formation and is used as a drinking water source with softening. This constitutes a resource isolated in this immediate area that if contaminated would create a significant hazard to public health. Potential sources of contamination include: (a) Petroleum, mineral exploration, and geophysical drilling, (b) accidental spills along roadways, (c) abandoned but unplugged petroleum, mineral and geophysical wells, and tunnels (d) non-sustainable agricultural and forestry practices and (e) upward migration of lower quality water from bedrock aquifers through man-made conduits.

III. Description of the Petitioned Aquifer

The designated area of the Castle Valley Aquifer System encompasses about 24,000 acres in an irregularly shaped area approximately 16 miles long by approximately 3 miles wide. Drinking water production is from individual domestic wells, most tapping Quaternary alluvium while some of the wells derive at least part of their drinking water from the underlying Cutler Formation. Most wells are between 40 and 300 feet deep. The boundaries of the aquifer were determined by hydrogeologic mapping of the surface area, which is interpreted to contribute water to the alluvium. The boundaries were delineated by a geological consultant with special expertise in drinking water source protection and confirmed by EPA professional staff.

IV. Information Utilized in Determination

The information utilized in this determination includes the petition from the Town of Castle Valley, review of available literature, and a published ground water investigation conducted by the Utah Geological Survey. These data are available to the public and may be inspected during normal business hours at EPA Region VIII, 999 18th Street, Suite 300, Denver, Colorado 80202-2466.

V. Project Review

EPA, Region VIII, will work with any federal agencies that may, in the future, provide financial assistance to projects in the designated area. Interagency procedures will be negotiated by which EPA will be notified of proposed commitments by federal agencies for projects which could contaminate the aquifer. EPA will evaluate such projects and, where necessary, conduct an in-depth review, soliciting public comments where appropriate. Should EPA determine that a project may contaminate the aquifer, so as to create a significant hazard to public health, no commitment for federal assistance may be entered into. However, a commitment for federal assistance may, if authorized under another provision of law, be entered into to plan or design the project to assure that it will not contaminate the aquifer.

Although the project review process of section 1424 (e) cannot be delegated to state or local agencies, the EPA will rely upon any existing or future state and local control mechanisms to the maximum extent possible in protecting the ground water quality of the aquifer. Included in the review of any federal financially assisted project will be coordination with local agencies. Their comments will be given full consideration, and the federal review process will attempt to complement and support state and local ground water quality protection mechanisms.

VI. Summary and Discussion of Public Comments

In response to the Public Notice, EPA received 6 comments endorsing Sole Source Aquifer designation. No additional questions were raised during the comment period. No comments objecting to designation were received during any portion of public participation process.

During the public comment period no data were presented to EPA regarding aquifer characteristics, boundary delineation or potential errors of fact presented in the petition.

VII. Economic and Regulatory Impact

Pursuant to the provisions of the Regulatory Flexibility Act (RFA), 5 U.S.C. 605(b), I hereby certify that this designation will not have a significant impact on a substantial number of small entities. For purposes of this Certification, “small entity” shall have the same meaning as given in section 601 of the RFA. This action is only applicable to projects with the potential to impact the Castle Valley Aquifer System Sole Source Aquifer as designated.

The only affected entities will be those businesses, organizations or governmental jurisdictions that request federal financial assistance for projects which have the potential for contaminating the Sole Source Aquifer so as to create a significant hazard to public health. EPA does not expect to be reviewing small isolated commitments of financial assistance on an individual basis, unless a cumulative adverse impact on the aquifer is anticipated or brought to the Agencies attention; accordingly, the number of affected small entities will be minimal.

For those small entities that are subject to review, the impact of today's action will not be significant. Many projects subject to this review will be preceded by a ground water impact assessment required pursuant to other federal laws, such as the National Environmental Policy Act (NEPA) as amended 42 U.S.C. 4321, et seq. Integration of those related review procedures with sole source aquifer review will allow EPA and other federal agencies to avoid delay or duplication of effort in approving financial assistance, thus minimizing any adverse effects on those small entities which are affected. Finally, today's action does not prevent grants of federal financial assistance which may be available to any affected small entity in order to pay for the redesign of the project to assure protection of the aquifer.

Under Executive Order 12866, EPA must judge whether a regulation is “major” and therefore subject to the requirement of a Regulatory Impact Analysis. This regulation is not major because it will not have an annual effect of $100 million or more on the economy, will not cause any major increase in costs or prices and will not have significant adverse effects on competition, employment, investment, productivity, innovation, or the ability of United States enterprises to compete in domestic or export markets. Today's action only affects the Castle Valley Aquifer System in Grand County, Utah. It provides an additional review of ground water protection measures, incorporating state and local measures whenever possible, for only those projects which request federal financial assistance.

Dated: July 26, 2001.
Jack W. McGraw,
Acting Regional Administrator, Region VIII.

[FR Doc. 01-19566 Filed 8-3-01; 8:45 am]

BILLING CODE 6560-50-P